DEPARTMENT OF ENERGY

Federal Energy Regulatory Commission

[Docket No. RP99-106-005]

TransColorado Gas Transmission Company; Notice of Tariff Filing

February 1, 2000.

Take notice that on January 28, 2000, TransColorado Gas Transmission Company (TransColorado) tendered for filing as part of its FERC Gas Tariff, Original Volume No. 1, Fifth Revised Sheet No. 20, with an effective date of February 1, 2000.

TransColorado states the filing is being made in compliance with the Commission's January 14, 2000, Order on Uncontested Settlement in Docket Nos. RP99-106-000 and -004 (the January 14 order). In the January 14 order, the Commission accepted the Interim Rates reflected on Sheet No. 20 to be effective February 1, 2000, as provided by Section II.A.6.b of the November 4, 1999, settlement that states Interim Rates will “be in effect, subject to refund under § III.F.1 below, as maximum filed rates from the first day of the month following the date the Settlement is approved by the Commission until February 1, 2001.”

TransColorado states that a copy of this filing has been served upon parties to the proceeding TransColorado's customers, the Colorado Public Utilities Commission and the New Mexico Public Regulatory Commission.

Any person desiring to protest this filing should file a protest with the Federal Energy Regulatory Commission, 888 First Street, NE, Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://ww.fer.fed.us/online/rims.htm (call 202-208-2222 for assistance).

David P. Boergers,
Secretary.

[FR Doc. 00-2660 Filed 2-4-00; 8:45 am]

BILLING CODE 6717-01-M